DEPARTMENT OF TRANSPORTATION

Research and Special Programs Administration (RSPA), DOT

[Docket No. RSPA-98-4034]

Pipeline Safety: Project Modifications Approved for the Natural Gas Pipeline Company of America Pipeline Risk Management Demonstration Project

AGENCY: Office of Pipeline Safety, Research and Special Programs Administration, DOT.

ACTION: Notice of risk management project modification and finding of no significant impact.

SUMMARY: The Research and Special Programs Administration's (RSPA) Office of Pipeline Safety (OPS) has amended the Risk Management Demonstration Project Order issued to Natural Gas Pipeline Company of America (NGPL) to allow NGPL to conduct alternative risk control activities on five of its pipeline segments in lieu of compliance with certain pipeline safety regulations. OPS has also made a finding that this amendment will have no significant impacts on the environment.

ADDRESSES: Comments on this or any other demonstration project will be accepted in the Docket throughout the 4-year demonstration period. You may send comments to the Dockets Facility, U.S. Department of Transportation, Plaza 401, 400 Seventh Street, SW., Washington, DC 20590-0991, or you may submit your comments electronically by logging on to the following Internet Web address: http://dms.dot.gov, and then clicking on “Help & Information” for instructions on how to file a document electronically. Comments should identify the docket number RSPA-1998-4034. Persons should submit the original comment document and one (1) copy. Persons wishing to receive confirmation of receipt of their comments must include a self-addressed stamped postcard. The Dockets Facility is located on the plaza level of the Nassif Building in Room 401, 400 Seventh Street, SW., Washington, DC. The Dockets Facility is open from 10 a.m. to 5 p.m., Monday through Friday, except on Federal holidays.

FOR FURTHER INFORMATION CONTACT: Elizabeth Callsen, OPS, (202) 366-4572, regarding the subject matter of this document. Contact the Dockets Unit, (202) 366-5046, for docket material. Comments may also be reviewed on line at the DOT Docket Management System Web site at http://dms.dot.gov/.

SUPPLEMENTARY INFORMATION:

Project Order Amendment

On December 31, 1998, OPS issued Natural Gas Pipeline Company of America (NGPL) ¹ a Risk Management Demonstration Project Order authorizing NGPL to conduct a risk management project on its interstate natural gas transmission pipeline system. The project was one of several demonstration projects in a risk demonstration program authorized by 49 U.S.C. 60126. Since that Order was issued, NGPL identified five segments in its pipeline system where it proposed to perform alternative risk control activities in lieu of compliance with the regulations addressing class location changes. In a Notice dated August 17, 2001 (66 FR 43295), OPS described in detail the five segments and the proposed alternative activities. OPS stated that its analysis of the proposed activities had found them likely to provide superior protection. OPS announced its intent to amend the Demonstration Project Order and allow the alternative activities, after consideration of public comment. OPS did not receive any public comment in response to that Notice.

¹ In 1998, NGPL was acquired by KN Energy, Inc. In October, 1999, KN Energy merged with Kinder Morgan, Inc. The merged company is named Kinder Morgan, Inc. (KMI). NGPL now operates its pipeline system as a subsidiary of KMI. The scope of the Risk Management Demonstration Project remains limited to the NGPL system.

This Notice announces OPS's issuance of an amendment to NGPL's Demonstration Project Order to exempt the five pipeline segments from compliance with 49 CFR 192.611 conditioned on NGPL performing the alternative activities. The decision to amend the Demonstration Project Order to allow the exemption is based on the conclusion that the alternative activities will provide superior safety to that provided by compliance with 49 CFR 192.611.

More detailed descriptions of all aspects of the NGPL demonstration project are available in the following documents:

(1) 66 FR 43295, “Pipeline Safety: Intent to Approve Project Modifications and Environmental Assessment of Modifications for the Natural Gas Pipeline Company of America Risk Management Demonstration Project,”August 17, 2001.

(2) Docket Number RSPA-1998-4034-5, “Appendix A: Environmental Assessment,” August 14, 2001.

(3) 63 FR 46497, “Pipeline Safety: Intent to Approve Project and Environmental Assessment for the Natural Gas Pipeline Company of America Risk Management Demonstration Project,” September 1, 1998.

(4) 64 FR 1067, “Pipeline Safety: Natural Gas Pipeline Company of America; Approved for Risk Management Demonstration Program,” January 7, 1999.

(5) “Demonstration Project Prospectus: Natural Gas Pipeline Company,” available via the Pipeline Risk Management Information System (PRIMIS) on the OPS Web page at http://ops.dot.gov, and following the links to “Initiatives” and “Risk Management Initiative.”

(6) “Risk Management Demonstration Project Order,” RMD 98-4, December 31, 1998.

(7) “Amendment to Risk Management Demonstration Project Order,” RMD 98-4, Amendment 1, November 18, 2002.

Finding of No Significant Impact (FONSI)

In accordance with section 102(2)(c) of the National Environmental Policy Act (42 U.S.C. 4332), the Council on Environmental Quality regulations (40 CFR 1500-1508), and Department of Transportation (DOT) Order 5610.1c, Procedures for Considering Environmental Impacts, OPS conducted an Environmental Assessment (EA) of the alternative activities NGPL proposed on the five pipeline segments (Docket #RSPA-1998-4034-5, “Appendix A: Environmental Assessment”, August 14, 2001). In that EA, OPS concluded that the alternative activities would not have significant environmental impacts.

OPS received no public comment on the Environmental Assessment. Based on the analysis and conclusions reached in the Environmental Assessment and the analysis conducted in the above-listed documents, OPS has determined that there are no significant impacts on the environment associated with this action. The Environmental Assessment and the other above-listed documents are incorporated by reference into this FONSI. To summarize, OPS has concluded that the risk control alternatives on the five pipeline segments will provide superior protection for people living near the NGPL pipeline system when compared to current regulatory requirements. Although the alternative activities are expected to provide environmental benefits, due to the minimal environmental impact associated with gas pipeline failures, these benefits are not expected to be significant. The additional environmental protection results primarily from reducing the likelihood that pipeline failures will occur.

Issued in Washington, DC on December 9, 2002.
Stacey L. Gerard,
Associate Administrator for Pipeline Safety.

[FR Doc. 02-31542 Filed 12-13-02; 8:45 am]

BILLING CODE 4910-60-P